ENVIORNMENTAL PROTECTION AGENCY

[ER-FRL-6639-5]

Notice of Intent To Prepare an Environmental Impact Statement for the Comprehensive Port Improvement Plan Within the Port of New York (NY) and New Jersey (NJ)

AGENCY: U.S. Environmental Protection Agency (EPA), U.S. Army Corps of Engineers (USACE), and Federal Highway Administration (FHWA) acting as Federal co-lead agencies.

ACTION: Federal co-lead agencies submit this Notice of Intent to prepare an Environmental Impact Statement for the Comprehensive Port Improvement Plan (CPIP-EIS) that may be adopted as state or local equivalent documents. The CPIP-EIS will be prepared concurrently with a CPIP Plan (CPIP-Plan) for the Port of NY and NJ (Port); the CPIP-Plan will be prepared by a Consortium, consisting of the Port Authority of NY and NJ, the OMR/NJDOT, NYESDC, and NY City Economic Development Corporation (NYCEDC). The CPIP-Plan and CPIP-EIS will: seek to define economically viable and environmentally sound Port facility and associated transportation network improvement initiatives to the year 2060; consider separate, ongoing, and planned environmental enhancements to natural resources of the Port and associated transportation network; incorporate Green Port principles to the maximum extent practicable; evaluate, avoid, minimize, and mitigate adverse environmental effects.

Schedule: Scoping will begin in April 2003 with interviews and public announcements to encourage a large turnout for subsequent meetings which will follow in June 2003.

Six scoping meetings for the CPIP EIS are planned to solicit comments, to determine the scope of issues, and to identify significant issues related to the proposed action. Formal comments may be given at the scoping meetings and a court reporter will be available to record comments. Scoping will conclude 30 days after the final scoping meeting (about late September 2003).

Services: Meeting locations will be accessible to people with disabilities. People with special disability related needs should contact the NEPA Coordinator for the CPIP at the address or phone number below. Reading materials will be available at meetings and may be obtained in advance by contacting the NEPA Coordinator for the CPIP, or visiting www.cpiponline.org.

For further information about Scoping, or the CPIP-EIS process, please contact the NEPA Coordinator for the CPIP at: Lorne LaMonica, NEPA Coordinator for the CPIP, U.S. Environmental Protection Agency, Environmental Review Section, 25th Fl., 290 Broadway NY, NY 10007. Phone: 1-866-877-CPIP (2747); E-mail: lamonica@cpipeis.com.

For your information, the Federal Co-Lead agency contacts are listed below:

Dave Carlson, U.S. Environmental Protection Agency, Environmental Review Section, 25th Fl., 290 Broadway, NY, NY 10007.

Nancy J. Brighton, U.S. Army Corps of Engineers, New York District, 26 Federal Plaza, Room 2146, NY, NY 10278-0090.

Richard E. Backlund, Federal Highway Administration, U.S. Department of Transportation, One Bowling Green, Room 428, NY, NY 10004-1415.

Summary Information

Authority—Authority for completion of the CPIP-EIS for each agency can be found at: EPA—Title 40 CFR part 6, FR: October 29, 1998, Number 209; USACE—33 U.S.C. 403, 33 U.S.C. 1344, and 33 U.S.C. 1413; FHWA—Title 23 CFR part 771; OMR/NJDOT—Executive Order (EO) No. 215 of 1989, 23 CFR Part 771.109, NJ CZM Rules, N.J.A.C. 7:7E; NYESDC—6 NYCRR PART 617 SEQR, ECL Sections 3-0301(1)(b), 3-0301(2)(m) and 8-0113.

Estimated Date of Draft EIS Release—Summer of 2004.

Purpose and Need for Action—The NY and NJ Harbor Navigation Study (HNS), prepared by the USACE in 1999, projected a substantial increase in the amount of containerized cargo destined for the Port over the period to 2060. The ability of existing Port facilities to handle future cargo volumes as forecast in the HNS indicates that the Port facilities and associated transportation network may need to make future additional improvements, beyond those currently planned, to efficiently manage projected cargo over that period. Other studies concerning the Port, prepared by various federal, state and local stakeholders, have identified plans to increase Port capacity and have highlighted a number of environmental issues of concern to the Port and regional area. The CPIP-Plan will consider the Port region as a complete system, and will seek to develop a port-wide plan that is economically efficient and environmentally sustainable, and considers environmental restoration efforts in the region; the CPIP-EIS will evaluate potential impacts of various Federal, state, and local port and transportation improvement strategies to achieve this.

Study Area—Study areas for the analysis of impacts of port and transportation improvement alternatives at existing, and potentially new, port facilities will encompass the port sites' premises and vicinities, and, at a minimum, the Port District.

Alternatives—The CPIP-EIS will evaluate a variety of alternatives, including, but not limited to: the no-action alternative; facility productivity and efficiency enhancements and improvements; facility expansion; new terminal facilities sited either in uplands or through placement of fill in waters and wetlands; and combinations of these alternatives. Consideration of alternatives will include identification and evaluation of improvements to the transportation infrastructure serving the Port. The CPIP-EIS will analyze direct, indirect and cumulative impacts of each alternative.

Scoping—Comments should focus on social, economic, or environmental issues to be evaluated; and on identifying the alternatives that may achieve both economic and environmental goals.

Public Involvement—Activities may include stakeholder and community meetings, open houses with technical staff, workgroups/workshops, a web site, and project fact sheets and newsletters.

Issues for Analysis—The CPIP-EIS will evaluate potential changes to the social, economic, and physical environment that would result with the defined project alternatives, including: land use and zoning; socioeconomics; parklands; historic and archeological resources; aesthetics; traffic and transportation; air quality; noise; navigation; floodplains and hydrology; topography, geology, and soils; wetlands and special aquatic sites; wildlife and waterfowl refuges; water quality; groundwater and sole source aquifers; aquatic and terrestrial ecology; endangered and threatened species; resource contamination and hazardous waste sites; and environmental justice. Impacts will be evaluated both for the construction period and for the long-term operation period of each alternative. Measures to mitigate any significant adverse impacts will be identified.

Responsible Official—

Dated: March 11, 2003.
Anne Norton Miller,
Director, OFA.

[FR Doc. 03-9625 Filed 4-17-03; 8:45 am]

BILLING CODE 6560-50-P